DEPARTMENT OF TRANSPORTATION

Federal Aviation Administration

[Summary Notice No. PE-2001-64]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATE: Comments on petitions received must identify the petition docket number involved and must be received on or before September 26, 2001.

ADDRESS: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on August 30, 2001.
Donald P. Byrne,
Assistant Chief Counsel for Regulations.

Petitions for Exemption

Docket No.: FAA-2001-9792.

Petitioner: The Boeing Company.

Section of 14 CFR Affected: 14 CFR 91.319(d)(3).

Description of Relief Sought: To permit Boeing to operate an aircraft holding an experimental certificate into or out of airports with an operating control tower without notifying the control tower of the experimental nature of the aircraft.

Docket No.: FAA-2001-10205.

Petitioner: Massachusetts Institute of Technology.

Section of 14 CFR Affected: 14 CFR 142.57(a)(1).

Description of Relief Sought: To permit MIT to conduct the crewmember qualification check with an 85% check in the simulator and a 15% check in the aircraft.

Docket No.: FAA-2000-8497.

Petitioner: America West Airlines, Inc.

Section of 14 CFR Affected: 14 CFR 91.205(b)(12).

Description of Relief Sought: To permit AWA to operate it's aircraft over water without at least one pyrotechnic signaling device onboard.

Docket No.: FAA-2001-10342.

Petitioner: Gulfstream Aerospace Corporation.

Section of 14 CFR Affected: 14 CFR 25.813(a).

Description of Relief Sought: To provide Gulfstream with relief from the 20-inch passageway requirements to allow for a minimum passageway dimension of 12 inches for installation of a forward mounted crew/observer Jumpseat in the Gulfstream Model G-IV aircraft.

[FR Doc. 01-22251 Filed 9-5-01; 8:45 am]

BILLING CODE 4910-13-M